BUREAU OF CONSUMER FINANCIAL PROTECTION

[Docket No: CFPB-2021-0009]

Agency Information Collection Activities: Comment Request; Emergency Processing Request

AGENCY: Bureau of Consumer Financial Protection.

ACTION: Notice and request for comment.

SUMMARY: In accordance with the Paperwork Reduction Act of 1995 (PRA), the Bureau of Consumer Financial Protection (Bureau) is proposing a new information collection titled, “Interim Final Rule on Debt Collection Practices in Connection with the Global COVID-19 Pandemic.”

DATES: An emergency review has been requested in accordance with the PRA (44 U.S.C. Chapter 3507(j)). Approval by the Office of Management and Budget (OMB) has been requested by May 3, 2021. A standard PRA clearance process is also beginning. Interested persons are invited to submit comments on or before June 21, 2021.

ADDRESSES: You may submit comments, identified by the title of the information collection, and docket number (see above), by any of the following methods:

• Federal eRulemaking Portal: Go to http://www.regulations.gov. Follow the instructions for submitting comments.

• Email: PRA_Comments@cfpb.gov. Include Docket No. CFPB-2021-0009 in the subject line of the email

• Mail/Hand Delivery/Courier: Comment intake, Bureau of Consumer Financial Protection (Attention: PRA Office), 1700 G Street NW, Washington, DC 20552. Please note that due to circumstances associated with the COVID-19 pandemic, the Bureau discourages the submission of comments by mail, hand delivery, or courier. Please note that comments submitted after the comment period will not be accepted. In general, all comments will become public records, including any personal information provided. Sensitive personal information, such as account numbers or social security numbers, should not be included.

FOR FURTHER INFORMATION CONTACT: Documentation prepared in support of this information collection request is available at www.regulations.gov. Requests for additional information should be directed to Suzan Muslu, Data Governance Program Manager, at (202) 435-9267, or email: CFPB_PRA@cfpb.gov. If you require this document in an alternative electronic format, please contact CFPB_Accessibility@cfpb.gov. Please do not submit comments to this mailbox.

SUPPLEMENTARY INFORMATION:

Title of Collection: Interim Final Rule on Debt Collection Practices in Connection with the Global COVID-19 Pandemic.

OMB Control Number: 3170-XXXX.

Type of Review: New collection (Request for a new OMB control number).

Affected Public: Private sector (banks and credit unions).

Estimated Number of Respondents: 500.

Estimated Total Annual Burden Hours: 6,000.

Abstract: The Bureau is issuing an interim final rule to amend Regulation F, which implements the Fair Debt Collection Practices Act (FDCPA) and currently contains the procedures for State application for exemption from the provisions of the FDCPA. The interim final rule addresses certain debt collector conduct associated with an eviction moratorium issued by the Centers for Disease Control and Prevention (CDC) in response to the global COVID-19 pandemic. The amendments prohibit debt collectors from taking certain covered eviction actions unless the debt collectors provide written notice to certain consumers of their protections under the CDC temporary eviction moratorium and prohibit misrepresentations about consumers' eligibility for protection under such moratorium. This moratorium is in place now and currently set to expire at the end of June. The Bureau believes there is a potential for public harm if consumers are not informed of their rights under the moratorium, therefore the Bureau is requesting emergency approval of this information collection request.

The Bureau requests OMB approval of this request by May 3, 2021. Contemporaneously with this request for emergency processing, the Bureau is also initiating standard clearance procedures by publishing a notice in the Federal Register allowing the public 60 days to comment on this collection of information. Accordingly, this request will also be resubmitted to OMB under standard clearance procedures.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: April 16, 2021.
Suzan Muslu,
Data Governance Program Manager, Bureau of Consumer Financial Protection.

[FR Doc. 2021-08304 Filed 4-21-21; 8:45 am]

BILLING CODE 4810-AM-P